DEPARTMENT OF JUSTICE

[OMB Number 1117-0023]

Agency Information Collection Activities; Proposed eCollection eComments Requested; Import/Export Declaration for List I and List II Chemical

AGENCY: Drug Enforcement Administration, Department of Justice.

ACTION: 30-Day notice.

SUMMARY: The Drug Enforcement Administration (DEA), Department of Justice (DOJ), will be submitting the following information collection request to the Office of Management and Budget (OMB) for review and approval in accordance with the Paperwork Reduction Act of 1995. This proposed information collection was previously published in the Federal Register on September 11, 2023, allowing for a 60-day comment period.

DATES: Comments are encouraged and will be accepted for 30 days until December 18, 2023.

FOR FURTHER INFORMATION CONTACT: If you have comments especially on the estimated public burden or associated response time, suggestions, or need a copy of the proposed information collection instrument with instructions or additional information, please contact Scott A. Brinks, Regulatory Drafting and Policy Support Section, Drug Enforcement Administration; Mailing Address: 8701 Morrissette Drive, Springfield, Virginia 22152; Telephone: (571) 362-3261, email: scott.a.brinks@dea.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1117-0023. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a currently approved collection.

2. Title of the Form/Collection: Import/Export Declaration for List I and List II Chemicals.

3. Agency form number, if any, and the applicable component of the Department of Justice sponsoring the collection: DEA Forms: 486, 486A. The applicable component within the Department of Justice is the Drug Enforcement Administration, Diversion Control Division.

4. Affected public who will be asked or required to respond, as well as a brief abstract: Affected public (Primary): Business or other for-profit. Affected public (Other): Not-for-profit institutions; Federal, State, local, and tribal governments.

Abstract: Section 1018 of the Controlled Substances Import and Export Act (CSIEA) (21 U.S.C. 971) and Title 21 Code of Federal Regulations (21 CFR) Part 1313 require any persons who import, export, or conduct international transactions involving list I and list II chemicals are required to establish a system of recordkeeping and report certain information regarding those transactions to DEA. The chemicals subject to control are used in the clandestine manufacture of controlled substances. The reports of domestic, import, and export regulated transactions in listed chemicals are submitted electronically through the Diversion Control Division secure network application. Any person who desires to import non-narcotic substances in schedules III, IV, and V must electronically file their return information. Any person who desires to export non-narcotic substances in schedules III and IV and any other substance in schedule V is also required to electronically file a controlled substances import declaration/controlled substance export invoice.

5. Obligation to Respond: Mandatory per 21 CFR 1313.

6. Total Estimated Number of Respondents: 631.

7. Estimated Time per Respondent: 11 minutes for DEA-486 Import, DEA-486 International, and DEA-486A Import, and 12 minutes for DEA-486 Export.

8. Frequency: 1 for DEA-486 Import and DEA-486A Import, 4 for DEA-486 International, and 77 for DEA-486 Export.

9. Total Estimated Annual Time Burden: Ex: 4,134 hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: November 7, 2023.
Darwin Arceo,
Department Clearance Officer for PRA, U.S. Department of Justice.

[FR Doc. 2023-25326 Filed 11-15-23; 8:45 am]

BILLING CODE 4410-09-P